DEPARTMENT OF COMMERCE

National Oceanic and Atmospheric Administration

RIN 0648-XC595

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene a public meeting.

DATES: The meeting will be held Monday, April 15, 2013 through Thursday, April 18, 2013.

ADDRESSES: The meeting will be held at the Courtyard Marriott, 1600 East Beach Boulevard, Gulfport, MS 39501; telephone: (228) 864-4310.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Committees

Monday, April 15, 2013

8:30 a.m.-11:30 p.m.—The Full Council in a CLOSED SESSION with the Advisory Panel Selection Committee will meet to review and appoint members to the Advisory Panels.

-Recess-

1 p.m.-2:30 p.m.—The Full Council in a CLOSED SESSION with the Scientific and Statistical Selection Committee will meet to review and appoint members to the Scientific and Statistical Committees.

2:30 p.m.-3:30p.m.—The Budget/Personnel Committee will meet to review the 2013 Budget.

3:30 p.m.-4 p.m.—The Shrimp Management Committee will review Framework Action to Fund Electronic Logbook Program or the Shrimp Fishery of the Gulf of Mexico.

4 p.m.-5 p.m.—The Red Drum Management Committee will review the History of Red Drum Management in the Gulf of Mexico and past meeting discussions and escapement rates; receive an overview of current research; discuss Options for Opening the EEZ to Harvest of Red Drum; and receive explanation of necessary steps to Open Harvest from the National Marine Fisheries Service (NMFS).

-Recess-

Tuesday, April 16, 2013

8:30 a.m.-9:15 a.m.—The Sustainable Fisheries/Ecosystem Committee will review the Integrated Ecosystem Assessments, and discuss proposed revisions to the ABC Control Rule.

9:15 a.m.-12 noon and 1:30 p.m.—3:30 p.m.—The Reef Fish Management Committee will receive the status of SEDAR 31 Red Snapper Benchmark Assessment; review Amendment 39 Options Paper—Regional Management for Recreational Red Snapper; discuss Red Snapper 5-year IFQ Review and IFQ Inter-sector Trading Issues; review scoping and written comments on For-Hire Days-at-Sea Pilot Program for Red Snapper; take Final Action—Permit Transfer and Renewal Requirements for Gulf of Mexico Charter/Headboat Permits (passenger capacity); discuss White Paper on Live Animal Collection for Public Displays; review status of Action to Define For-Hire Fishing Under Contractual Services; and, discuss Exempted Fishing Permits related to Reef Fish (if any).

3:30 p.m.-5:30 p.m.—The Mackerel Management Committee will review and approve the minutes from the March 2013 Joint GMFMC/SAFMC Mackerel Committee meeting; discuss Spanish Mackerel and cobia (SEDAR) Benchmark Assessments; receive recommendations from the Scientific and Statistical Committee for Stock Assessments; review a draft Joint Amendment 20—Modifications to the Coastal Migratory Pelagic Zones; and, receive a summary of South Atlantic Council Motions and Recommendations for Amendment 20.

-Recess-

Immediately following the Committee Recess will be the Informal Question & Answer Session on Gulf of Mexico Fishery Management Issues.

Wednesday, April 17, 2013

8:30 a.m.-11 a.m.—The Data Collection Committee will receive a Final Report on the For-Hire Electronic Logbook Pilot Study in the Gulf of Mexico; draft a Framework Action on modifications to Headboat Electronic Reporting for Reef Fish Resources in the Gulf of Mexico and Coastal Migratory Pelagics of the Gulf of Mexico and South Atlantic Regions; receive a status update on modifications to the Federally-Permitted Seafood Dealer Reporting Requirements; and, receive a summary from the Ad Hoc Private Recreational Data Collection Advisory Panel Meeting.

11 a.m.-11:45 a.m.—The Joint Artificial Reef/Habitat Protection Committees will receive summaries from the Ad Hoc Artificial Substrate Advisory Panel and Artificial Reef Fish meetings.

-Recess-

Council

Wednesday, April 17, 2013

1:30 p.m.—The Council meeting will begin with a Call to Order and Introductions.

1:35 p.m.-1:45 p.m.—The Council will review the agenda and approve the minutes.

1:45 p.m.-5:30 p.m.—The Council will receive public testimony on Framework Action to Fund Electronic Logbook Program for the Shrimp Fishery of the Gulf of Mexico and Permit Transfer and Renewal Requirements for Gulf of Mexico Charter/Headboat Permits (passenger capacity). The Council will also hold an open public comment period regarding any other fishery issues or concerns. People wishing to speak before the Council should complete a public comment card prior to the comment period.

-Recess-

Thursday, April 18, 2013

8:30 a.m.-8:45 a.m.—The Council will review and vote on Exempted Fishing Permits (EFP), if any.

8:45 a.m.-4 p.m.—The Council will receive committee reports from Advisory Panel Selection, Scientific and Statistical Committee Selection; Budget/Personnel, Joint Artificial Reef/Habitat Protection, Shrimp, Red Drum, Sustainable Fisheries/Ecosystem, Joint GMFMC/SAFMC Mackerel Committees, Mackerel, Data Collection and Reef Fish.

4 p.m.-4:15 p.m.—The Council will review Other Business items: SEDAR Schedule. Review of Action Schedule items will follow from 4:15 p.m.—4:30 p.m.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council Office (see ADDRESSES) at least 5 working days prior to the meeting.

Dated: March 25, 2013.
Tracey L. Thompson,
Acting Deputy Director, Office of Sustainable Fisheries National Marine Fisheries Service.

[FR Doc. 2013-07188 Filed 3-27-13; 8:45 am]

BILLING CODE 3510-22-P